DEPARTMENT OF ENERGY

Federal Energy Regulatory Commission

[Docket No. TX02-1-000, et al.]

Pinnacle West Capital Corporation, et al.; Electric Rate and Corporate Regulation Filings

October 12, 2001.

Take notice that the following filings have been made with the Commission:

1. Pinnacle West Capital Corporation

[Docket No. TX02-1-000]

Take notice that on October 9, 2001, Pinnacle West Capital Corporation (PWCC), P.O. Box 53999, Phoenix, Arizona 85072-3999, filed with the Federal Energy Regulatory Commission (Commission), an application requesting that the Commission order Electrical District No. Three of the County of Pinal and the State of Arizona (ED-3) to provide transmission services pursuant to Section 211 of the Federal Power Act.

PWCC requests firm network transmission service over ED-3's electric transmission and distribution system of the same character and nature as the service that Arizona Public Service Company (APS) has previously received from ED-3, pursuant to a lease agreement. PWCC requests sufficient transmission capacity to meet APS’ loads served using the ED-3 system. PWCC proposes that this transmission service commence on October 9, 2001.

Comment date: October 29, 2001, in accordance with Standard Paragraph E at the end of this notice.

2. DukeSolutions, Inc.

[Docket No. ER98-3813-007]

Take notice that on October 9, 2001, DukeSolutions tendered for filing with the Federal Energy Regulatory Commission (Commission) a summary of triennial market analysis report in compliance with the Commission's Order issued September 17, 1998.

Comment date: October 30, 2001, in accordance with Standard Paragraph E at the end of this notice.

3. Westmoreland—LG&E Partners

[Docket No. ER01-537-001]

Take notice that on October 2, 2001, Westmoreland—LG&E Partners (WLP) notified the Federal Energy Regulatory Commission (Commission) that it has relinquished its QF status.

Comment date: October 23, 2001, in accordance with Standard Paragraph E at the end of this notice.

4. New England Power Pool

[Docket No. ER01-2534-002]

Take notice that on October 9, 2001, the New England Power Pool (NEPOOL) Participants Committee tendered for filing with the Federal Energy Regulatory Commission (Commission) a Substitute 2nd Revised Sheet No. 1169 of NewEngland Power Pool FERC Electric Rate Schedule No. 6, and a black line showing the correction. The amendment corrects the date through which a specific contract is exempt from changes to the treatment of Installed Capability (ICAP) transactions NEPOOL has proposed in this docket.

The NEPOOL Participants Committee states that copies of these materials were sent to the New England state governors and regulatory commissions and the Participants in the New England Power Pool.

Comment date: October 30, 2001, in accordance with Standard Paragraph E at the end of this notice.

5. ISO New England Inc.

[Docket No. ER01-2559-001]

Take notice that on October 9, 2001, ISO New England (the ISO) has tendered for filing with the Federal Energy Regulatory Commission (Commission) a compliance filing pursuant to the Commission's Order of September 7, 2001, on rejected material as discussed in the Order.

Comment date: October 30, 2001, in accordance with Standard Paragraph E at the end of this notice.

6. NRG Audrain Generating LLC

[Docket No. ER01-2969-001]

Take notice that on October 3, 2001, NRG Audrain Generating LLC (NRG Audrain) filed with the Federal Energy Regulatory Commission (Commission) a Notice of Succession informing the Commission that the name Duke Energy Audrain, LLC has been changed to NRG Audrain.

Comment date: October 24, 2001, in accordance with Standard Paragraph E at the end of this notice.

7. Xcel Energy Services Inc.

[Docket No. ER02-29-000]

Take notice that on October 3, 2001, Xcel Energy Services Inc. (XES), on behalf of Southwestern Public Service (SPS), submitted for filing with the Federal Energy Regulatory Commission (Commission) an Interconnection Agreement between SPS and Llano Estacado Wind, LP.

SPS requests that the Commission accept the agreement effective March 2, 2001, and requests waiver of the Commission's notice requirements in order for the agreements to be accepted for filing on the date requested.

Comment date: October 24, 2001, in accordance with Standard Paragraph E at the end of this notice.

8. Longhorn Power, LP,

[Docket No. ER02-30-000]

Take notice that on October 3, 2001, Longhorn Power, LP (Longhorn)tendered for filing with the Federal Energy Regulatory Commission (Commission) acceptance of Longhorn Rate Schedule FERC No. 1; the granting of certain blanket approvals, including the authority to sell electricity at market-based rates; and the waiver of certain Commission regulations.

Longhorn intends to engage in wholesale electric power and energy purchases and sales as a marketer. Longhorn is not in the business of generating or transmitting electric power. Longhorn is a Limited Partnership and has no corporate affiliates.

Comment date: October 24, 2001, in accordance with Standard Paragraph E at the end of this notice.

9. Alliant Energy Corporate Services, Inc.

[Docket No. ER02-31-000]

Take notice that on October 4, 2001, Alliant Energy Corporate Services, Inc. tendered for filing with the Federal Energy Regulatory Commission (Commission) an executed Service Agreements with Exelon Generation Company, LLC Exelon establishing Exelon as a Short-Term Firm and Non-Firm Point-to-Point Transmission Customer under the terms of the Alliant Energy Corporate Services, Inc. Open Access Transmission Tariff.

Alliant Energy Corporate Services, Inc. requests an effective date of September 17, 2001, and accordingly, seeks waiver of the Commission's notice requirements. A copy of this filing has been served upon the Illinois Commerce Commission, the Minnesota Public Utilities Commission, the Iowa Department of Commerce, and the Public Service Commission of Wisconsin.

Comment date: October 25, 2001, in accordance with Standard Paragraph E at the end of this notice.

10. California Independent System Operator Corporation

[Docket No. ER02-32-000]

Take notice that on October 3, 2001, the California Independent System Operator Corporation, (ISO) tendered for filing with the Federal Energy Regulatory Commission (Commission) a Meter Service Agreement for ISO Metered Entities between the ISO and CalPeak Power—Enterprise, LLC for acceptance by the Commission. The ISO states that this filing has been served on CalPeak Power—Enterprise, LLC and the California Public Utilities Commission.

The ISO is requesting waiver of the 60-day notice requirement to allow the Meter Service Agreement for ISO Metered Entities to be made September 26, 2001.

Comment date: October 24, 2001, in accordance with Standard Paragraph E at the end of this notice.

11. California Independent System Operator Corporation

[Docket No. ER02-33-000]

Take notice that on October 3, 2001, the California Independent System Operator Corporation, (ISO) tendered for filing with the Federal Energy Regulatory Commission (Commission) a Participating Generator Agreement between the ISO and CalPeak Power—Enterprise, LLC for acceptance by the Commission. The ISO states that this filing has been served on CalPeak Power—Enterprise, LLC and the California Public Utilities Commission.

The ISO is requesting waiver of the 60-day notice requirement to allow the Participating Generator Agreement to be made effective September 26, 2001.

Comment date: October 24, 2001, in accordance with Standard Paragraph E at the end of this notice.

12. California Independent System Operator Corporation

[Docket No. ER02-34-000]

Take notice that on October 3, 2001, the California Independent System Operator Corporation, (ISO) , tendered for filing with the Federal Energy Regulatory Commission (Commission) a Meter Service Agreement for ISO Metered Entities between the ISO and CalPeak Power—Border LLC for acceptance by the Commission.

The ISO states that this filing has been served on CalPeak Power—Border LLC and the California Public Utilities Commission.

The ISO is requesting waiver of the 60-day notice requirement to allow the Meter Service Agreement for ISO Metered Entities to be made effective September 27, 2001.

Comment date: October 24, 2001, in accordance with Standard Paragraph E at the end of this notice.

13. California Independent System Operator Corporation

[Docket No. ER02-35-000]

Take notice that on October 3, 2001, the California Independent System Operator Corporation, (ISO) , tendered for filing with the Federal Energy Regulatory Commission (Commission) a Participating Generator Agreement between the ISO and CalPeak Power—Border LLC for acceptance by the Commission.

The ISO states that this filing has been served on CalPeak Power—Border LLC and the California Public Utilities Commission.

The ISO is requesting waiver of the 60-day notice requirement to allow the Participating Generator Agreement to be made effective September 27, 2001.

Comment date: October 24, 2001, in accordance with Standard Paragraph E at the end of this notice.

14. New England Power Company

[Docket No. ER02-36-000]

Take notice that on October 3, 2001, New England Power Company (NEP) tendered for filing with the Federal Energy Regulatory Commission (Commission) a Second Revised Service Agreement No. 10 (Service Agreement) between NEP and Littleton Electric Light Department for network integration transmission service under NEP's open access transmission tariff—New England Power Company, FERC Electric Tariff, Second Revised Volume No. 9. This Service Agreement is a fully executed version of First Revised Service Agreement No. 10, that was filed unexecuted on August 8, 2001, in Docket No. ER01-2802-000. On October 9, 2001, NEP also submitted the Network Operating Agreement as part of NEP's October 3, 2001 filing where it submitted a second revised Service Agreement No. 10 between NEP and Littleton. No other changes have been made to the Service Agreement and the terms remain the same as originally filed on August 8, 2001.

NEP states that a copy of this filing has been served upon the Department of Telecommunications and Energy of the Commonwealth of Massachusetts and parties to the agreement.

Comment date: October 24, 2001, in accordance with Standard Paragraph E at the end of this notice.

15. Green Mountain Power Corporation

[Docket No. ER02-37-000]

Take notice that on October 3, 2001, Green Mountain Power Corporation (Green Mountain) tendered for filing with the Federal Energy Regulatory Commission (Commission) a Service Agreement for sale of power to Connecticut Energy Cooperative pursuant to its Wholesale Market-Based Rate Power Sales Tariff and a Confirmation Letter thereunder dated September 20, 2001 for a long-term sale of Unit Firm Energy from its Searsburg Windpower Facility. Green Mountain is proposing to make the Service Agreement and accompanying Confirmation Letter effective as of October 1, 2001.

Comment date: October 24, 2001, in accordance with Standard Paragraph E at the end of this notice.

16. Duke Energy Merchants, LLC

[Docket No. ER02-38-000]

Take notice that on October 3, 2001, Duke Energy Merchants, LLC (DEM) tendered for filing with the Federal Energy Regulatory Commission (Commission) a Notice of Cancellation of its Market-Based Rate Schedule, Rate Schedule FERC No. 1.

DEM requests an effective date for cancellation of October 4, 2001.

Comment date: October 24, 2001, in accordance with Standard Paragraph E at the end of this notice.

17. Attala Energy Company, LLC

[Docket No. ER02-40-000]

Take notice that on October 4, 2001, Attala Energy Company, LLC (Attala) submitted for filing with the Federal Energy Regulatory Commission (Commission), pursuant to Section 205 of the Federal Power Act, and Part 35 of the Commission's regulations, an application for authorization to make sales, as a power marketer, of capacity, energy, and certain Ancillary Services at market-based rates; to reassign transmission capacity; and to resell firm transmission rights (FTRs).

Comment date: October 25, 2001, in accordance with Standard Paragraph E at the end of this notice.

18. NorthWestern Energy Marketing, LLC

[Docket No. ER02-41-000]

On October 4, 2001, NorthWestern Energy Marketing, LLC, a limited liability corporation organized under the laws of the State of Delaware, filed with the Federal Energy Regulatory Commission (Commission), under Section 205 of the Federal Power Act (FPA), an application requesting that the Commission (1) accept for filing its proposed market-based FERC Rate Schedule No. 1; (2) grant blanket authority to make market-based wholesale sales of capacity and energy under the FERC Rate Schedule No. 1; (3) grant authority to sell ancillary services at market-based rates; and (4) grant such waivers and blanket authorizations as the Commission has granted in the past to other nonfranchised entities with market-based rate authority.

Comment date: October 25, 2001, in accordance with Standard Paragraph E at the end of this notice.

19. Reliant Energy Aurora, LP; Reliant Energy Coolwater, LLC; Reliant Energy Desert Basin, LLC; Reliant Energy Ellwood, LLC; Reliant Energy Etiwanda, LLC; Reliant Energy Indian River, LLC; Reliant Energy Mandalay, LLC; Reliant Energy Maryland Holdings, LLC; Reliant Energy Mid-Atlantic Power Holdings, LLC; Reliant Energy New Jersey Holdings, LLC; Reliant Energy Ormond Beach, LLC; Reliant Energy Osceola, LLC; Reliant Energy Services, Inc.; Reliant Energy Shelby County, LP; and El Dorado Energy, LLC

[Docket No. ER02-39-000]

Take notice that on October 4, 2001, Reliant Energy Aurora, LP, Reliant Energy Coolwater, LLC, Reliant Energy Desert Basin, LLC, Reliant Energy Ellwood, LLC, Reliant Energy Etiwanda, LLC, Reliant Energy Indian River, LLC, Reliant Energy Mandalay, LLC, Reliant Energy Maryland Holdings, LLC, Reliant Energy Mid-Atlantic Power Holdings, LLC, Reliant Energy New Jersey Holdings, LLC, Reliant Energy Ormond Beach, LLC, Reliant Energy Osceola, LLC, Reliant Energy Services, Inc., Reliant Energy Shelby County, LP and El Dorado Energy, LLC (collectively, the Reliant Affiliates) tendered for filing with the Federal Energy Regulatory Commission (Commission) pursuant to Section 205 of the Federal Power Act, 16 U.S.C. 824d (1994), and Part 35 of the Commission's Regulations, 18 CFR 35 (2001), revisions to their market-based rate tariffs to prohibit transactions with the franchised utility affiliate of their proposed merger partner, Orion Power Holdings, Inc., while the proposed transaction is pending.

The Reliant Affiliates request waiver of the prior notice requirements of Section 35.3 of the Commission's regulations, 18 CFR 35.3 (1999), to permit their filing to become effective September 27, 2001.

Comment date: October 25, 2001, in accordance with Standard Paragraph E at the end of this notice.

20. GWF Energy LLC

[Docket No. ER02-42-000]

Take notice that on October 4, 2001, GWF Energy LLC (GWF) filed with the Federal Energy Regulatory Commission (Commission), a long-term power sales agreement between GWF and the California Department of Water Resources (the Agreement). Confidential treatment is being sought for the Agreement.

Comment date: October 25, 2001, in accordance with Standard Paragraph E at the end of this notice.

21. PPL Brunner Island, LLC

[Docket No. EG01-125-000]

Take notice that on October 10, 2001, PPL Brunner Island, LLC (PPL Brunner Island) tendered for filing a Second Amended Request for Redetermination of Exempt Wholesale Generator Status. This request amends an Amended Request for Redetermination of Exempt Wholesale Generator Status originally filed by PPL Brunner Island on August 21, 2001.

Comment date: November 2, 2001, in accordance with Standard Paragraph E at the end of this notice. The Commission will limit its consideration of comments to those that concern the adequacy or accuracy of the application.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

David P. Boergers,
Secretary.

[FR Doc. 01-26201 Filed 10-17-01; 8:45 am]

BILLING CODE 6717-01-P